DEPARTMENT OF TRANSPORTATION

Federal Aviation Administration

Notice of Intent To Request Renewal From the Office of Management and Budget of a Currently Approved Information Collection Activity, Request for Comments; Operating Requirements: Commuter and On-Demand Operation

AGENCY: Federal Aviation Administration (FAA), DOT.

ACTION: Notice and request for comments.

SUMMARY: Title 49 U.S.C. 44702, authorizes the issuance of air carrier operating certificates. 14 CFR part 135 prescribes requirements forAir Carrier/Commercial Operators. The information collected shows compliance and applicant eligibility.

DATES: Please submit comments by March 20, 2006.

FOR FURTHER INFORMATION CONTACT: Judy Street on (202) 267-9895, or be e-mail at: Judy.Street@faa.gov.

SUPPLEMENTARY INFORMATION:

Federal Aviation Administration (FAA)

Title: Operating Requirements: Commuter and On-Demand Operation.

Type of Request: Renewal of an approved collection.

OMB Control Number: 2120-0039.

Form(s): FAA Form 8070-1.

Affected Public: A total of 2,765 respondents.

Frequency: The information is collected as needed.

Estimated Average Burden per Response: Approximately 1 minute per response.

Estimated Annual Burden Hours: An estimated 1,164,091 hours annually.

Abstract: Title 49 U.S.C. 44702, authorizes the issuance of air carrier operating certificates. 14 CFR part 135 prescribes requirements for Air Carrier/Commercial Operators. The information collected shows compliance and applicant eligibility.

ADDRESSES: Send comments to the FAA at the following address: Ms. Judy Street, Room 612, Federal Aviation Administration, Information Systems and Technology Services Staff, ABA-20,800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on January 11, 2006.
Judith D. Street,
FAA Information Collection Clearance Officer, Information Systems and Technology Services Staff, ABA-20.

[FR Doc. 06-414 Filed 1-17-06; 8:45 am]

BILLING CODE 4910-13-M